DEPARTMENT OF AGRICULTURE

Animal and Plant Health Inspection Service

[Docket No. APHIS-2019-0002]

Notice of Availability of an Environmental Assessment for the Release of Aphalara Itadori for the Biological Control of Japanese, Giant, and Bohemian Knotweeds

AGENCY: Animal and Plant Health Inspection Service, USDA.

ACTION: Notice of availability.

SUMMARY: We are advising the public that the Animal and Plant Health Inspection Service has prepared an environmental assessment relative to permitting the release of Aphalara itadori for the biological control of Japanese, Giant, and Bohemian knotweeds (Fallopia japonica, F. sachalinensis, and F. x bohemica), significant invasive weeds, within the contiguous United States. Based on the environmental assessment and other relevant data, we have reached a preliminary determination that the release of this biological control organism will not have a significant impact on the quality of the human environment. We are making the environmental assessment available to the public for review and comment.

DATES: We will consider all comments that we receive on or before June 27, 2019.

ADDRESSES: You may submit comments by either of the following methods:

• Federal eRulemaking Portal: Go to http://www.regulations.gov/#!docketDetail;D=APHIS-2019-0002.

• Postal Mail/Commercial Delivery: Send your comment to Docket No. APHIS-2019-0002, Regulatory Analysis and Development, PPD, APHIS, Station 3A-03.8, 4700 River Road, Unit 118, Riverdale, MD 20737-1238.

Supporting documents and any comments we receive on this docket may be viewed at http://www.regulations.gov/#!docketDetail;D=APHIS-2019-0002 or in our reading room, which is located in Room 1141 of the USDA South Building, 14th Street and Independence Avenue SW, Washington, DC. Normal reading room hours are 8 a.m. to 4:30 p.m., Monday through Friday, except holidays. To be sure someone is there to help you, please call (202) 7997039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2237; email: Colin.Stewart@usda.gov.

SUPPLEMENTARY INFORMATION: Invasive knotweeds in North America are a complex of three closely related species in the family Polygonaceae that were introduced from Japan during the late 19th century. They include Fallopia japonica (Japanese knotweed), F. sachalinensis (Giant knotweed), and the hybrid between the two, F. x bohemica (Bohemian knotweed). These large herbaceous perennials have spread throughout much of North America, with the greatest infestations in the Pacific Northwest, the northeast of the United States, and eastern Canada. While capable of growing in diverse habitats, the knotweeds have become especially problematic along the banks and floodplains of rivers and streams, where they crowd out native plants and potentially affect stream nutrients and food webs. While several States have active control programs against knotweeds, the inaccessibility of some of the infestations and the difficulty with which the plants are killed suggest that complete eradication of knotweeds within the United States is unlikely.

The Hokkaido and Kyushu biotypes of the insect Aphalara itadori were chosen as potential biological control organisms. The biotypes are expected to reduce the severity of infestations of Japanese, Giant, and Bohemian knotweed, and are known to be highly host specific due to their intimate relationship with their host plants.

The Animal and Plant Health Inspection Service's (APHIS') review and analysis of the potential environmental impacts associated with the proposed release are documented in detail in an environmental assessment (EA) entitled “Field Release of the Knotweed Psyllid Aphalara itadori (Hemiptera: Psyllidae) for Classical Biological Control of Japanese, Giant, and Bohemian Knotweeds, Fallopia japonica, F. sachalinensis, and F. x bohemica (Polygonaceae), in the Contiguous United States, Environmental Assessment” (April 2018). We are making the EA available to the public for review and comment. We will consider all comments that we receive on or before the date listed under the heading DATES at the beginning of this notice.

The EA may be viewed on the Regulations.gov website or in our reading room (see ADDRESSES above for a link to Regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 21st day of May 2019.
Kevin Shea,
Administrator, Animal and Plant Health Inspection Service.

[FR Doc. 2019-11026 Filed 5-24-19; 8:45 am]

BILLING CODE 3410-34-P